DEPARTMENT OF ENERGY

Federal Energy Regulatory Commission

[Project No. 14464-000]

Cascade Energy Storage, LLC; Notice of Preliminary Permit Application Accepted for Filing and Soliciting Comments, Motions To Intervene, and Competing Applications

On October 23, 2012, Cascade Energy Storage, LLC, filed an application for a preliminary permit, pursuant to section 4(f) of the Federal Power Act (FPA), proposing to study the feasibility of the Cascade Pumped Storage Project (Cascade Project or project) to be located on Mud Lake, near Granite Falls, Snohomish County, Washington. The sole purpose of a preliminary permit, if issued, is to grant the permit holder priority to file a license application during the permit term. A preliminary permit does not authorize the permit holder to perform any land-disturbing activities or otherwise enter upon lands or waters owned by others without the owners' express permission.

The proposed project would consist of the following: (1) A 50-foot-high, 7,500-foot-long upper concrete-faced rockfill, roller-compacted concrete, or earthen dam; (2) an upper reservoir with surface area of 100 acres and storage capacity of 6,000 acre-feet at an elevation of 2,240 feet mean sea level (msl); (3) a 115-foot-high, 1,160-foot-long lower concrete-faced rockfill or roller-compacted concrete dam; (4) a lower reservoir with surface area of 109 acres and storage capacity of 7,120 acre-feet at an elevation of 800 feet msl; (5) a 18.5-foot-diamter, 5,100-foot-long concrete-lined headrace; (6) a 22.2-foot-diameter, 500-foot-long concrete-, steel-, or concrete and steel-lined tailrace; (7) a pump-powerhouse with four 150-megawatt reversible pump-turbines; (8) a new 5.5 to 11.0-mile-long double-circuit 230-kilovolt (kV) overhead transmission line with interconnection to either: (i) Seattle City Light's existing 230-kV transmission line, or (ii) Bonneville Power Administration's (BPA) existing Custer-Monroe 500-kV line, or (iii) BPA existing Murray substation, or (iv) a new 4.5-mile-long underground 230-kV transmission line running parallel to the existing Seattle City Light's transmission line and then to the BPA Murray substation; and (9) appurtenant facilities. The estimated annual generation of the Cascade Project would be 1,314 gigawatt-hours.

Applicant Contact: Mr. Matthew Shapiro, Chief Executive Officer, Cascade Energy Storage, LLC, 1210 W. Franklin Street, Ste. 2, Boise, Idaho 83702; phone: (208) 246-9925.

FERC Contact: John Matkowski; phone: (202) 502-8576.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14464) in the docket number field to access the document. For assistance, contact FERC Online Support.

Dated: November 30, 2012.
Kimberly D. Bose,
Secretary.

[FR Doc. 2012-29803 Filed 12-10-12; 8:45 am]

BILLING CODE 6717-01-P